DEPARTMENT OF THE INTERIOR

National Park Service

36 CFR Part 7

RIN 1024-AD73

Special Regulations; Areas of the National Park System

AGENCY: National Park Service, Interior.

ACTION: Proposed rule; reopening of comment period.

SUMMARY: The National Park Service (NPS) announces the reopening of the comment period on the proposed rules to manage winter visitation and recreational use in Yellowstone National Park, Grand Teton National Park, and the John D. Rockefeller, Jr., Memorial Parkway. The proposed rule was published in the Federal Register on November 5, 2008.

DATES: The comment period for the proposed rule published on November 5, 2008 (73 FR 65784), is reopened. Comments must be received by September 8, 2009.

ADDRESSES: You may submit your comments, identified by Regulatory Information Number 1024-AD73 (RIN), by any of the following methods:

• Federal eRulemaking Portal: http://www.regulations.gov. Follow the instructions for submitting comments.

• Mail: Yellowstone National Park, Winter Use Proposed Rule, P.O. Box 168, Yellowstone NP, WY 82190

All submissions received must include the agency name and RIN. For additional information see “Public Comments” under SUPPLEMENTARY INFORMATION below.

FOR FURTHER INFORMATION CONTACT: John Sacklin, Management Assistant's Office, Headquarters Building, Yellowstone National Park, 307-344-2019 or at the address listed in the ADDRESSES section.

SUPPLEMENTARY INFORMATION: The proposed rule was originally published with a 15-day comment period. The NPS has now determined that there is sufficient time to provide for an additional 45-day comment period to ensure that the public has had an opportunity for review and comment.

The NPS intends for final rules to be published on or before November 15, 2009, and to be in effect for the winter season commencing on December 15, 2009. Under the proposed rule, up to 318 snowmobiles would be allowed in Yellowstone each day.

The proposed regulatory provisions regarding the duration of this rule remain as published last year. The NPS intends that this rule would be in effect in Yellowstone National Park for the winter seasons ending with the 2010-2011 winter season. During the period this rule is in effect, the NPS will work with all interested parties to complete a new environmental impact statement using the best information available, a new long-term plan, and permanent regulations governing winter use in Yellowstone National Park. The proposed rules for Grand Teton National Park and the John D. Rockefeller, Jr., Memorial Parkway, if adopted, will be permanent for these two units.

If you have already commented on the rule, you do not have to resend your comment. We will consider it in preparing the final rule. We will also consider any comments that may have been received between the close of the comment period on November 20, 2008 and the re-opening of this comment period.

Before including your address, phone number, e-mail address, or other personal identifying information in your comment, you should be aware that your entire comment—including your personal identifying information—may be made publicly available at any time. While you can ask us in your comment to withhold your personal identifying information from public review, we cannot guarantee that we will be able to do so.

Dated: July 21, 2009.
Will Shafroth,
Principal Deputy Assistant Secretary of the Interior for Fish and Wildlife and Parks.

[FR Doc. E9-17778 Filed 7-23-09; 8:45 am]

BILLING CODE 4312-52-P